DEPARTMENT OF ENERGY

Federal Energy Regulatory Commission

[Docket Nos. CP02-60-004 and CP04-64-000]

Trunkline LNG Company, LLC and Trunkline Gas Company, LLC; Notice of Intent To Prepare an Environmental Assessment for the Proposed Trunkline LNG and Loop Project and Request for Comments on Environmental Issues

April 30, 2004.

The staff of the Federal Energy Regulatory Commission (FERC or Commission) will prepare an environmental assessment (EA) that will discuss the environmental impacts of the Trunkline LNG Company, LLC's (Trunkline LNG) Modified Expansion Project in Lake Charles, Calcasieu Parish, Louisiana, and the Trunkline Gas Company, LLC's (Trunkline Gas) Gas LNG Loop and Metering Facilities Project involving construction and operation of facilities in Beauregard, Jefferson Davis, and Calcasieu Parishes, Louisiana.¹ The facilities for these projects would consist of modifications to existing liquefied natural gas (LNG) facilities, about 22.2 miles of 30-inch-diameter pipeline loop, and associated facilities. We will refer to these two projects as the Trunkline LNG and Loop Project. This EA will be used by the Commission in its decisionmaking process to determine whether the project is in the public convenience and necessity.

¹ Trunkline LNG's application was filed with the Commission under Section 3(a) of the Natural Gas Act and Part 157 of the Commission's regulations. Trunkline Gas's application was filed with the Commission under Section 7(c) of the Natural Gas Act and Part 157 of the Commission's regulations.

If you are a landowner receiving this notice, you may be contacted by a pipeline company representative about the acquisition of an easement to construct, operate, and maintain the proposed facilities. The company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility On My Land? What Do I Need To Know?” was attached to the project notice Trunkline LNG and Trunkline Gas provided to landowners. This fact sheet addresses a number of typically asked questions, including the use of eminent domain and how to participate in the Commission's proceedings. It is available for viewing on the FERC Internet Web site (http://www.ferc.gov).

Summary of the Proposed Project

Trunkline Gas wants to expand the capacity of its facilities in Louisiana to transport an additional 2.1 billion cubic feet per day for service to Trunkline Gas' customers.

In Docket No. CP02-60-004, Trunkline LNG proposes to:

• Convert an LNG vessel lay berth to a LNG ship unloading dock with three liquid unloading arms and one vapor return/delivery arm at the import terminal;

• Construct a desuperheater knockout drum;

• Construct three 200 million standard cubic feet per day (MMscf/d) second stage pumps;

• Construct four 150 MMscf/d submerged combustion vaporizers; and

• Construct an additional fuel gas heater.

In Docket No. CP04-64-000, Trunkline Gas seeks authority to:

• Construct 22.2 miles of 30-inch-diameter pipeline from the Trunkline LNG Import Terminal at milepost (MP) 0.0 to the Trunkline Gas Lakeside Pipeline Gate 203A (MP 22.2);

• Construct 0.6 mile of 30-inch-diameter pipeline inside the Trunkline LNG Import Terminal;

• Construct a new meter station facility at the existing Trunkline LNG Import Terminal for receipt of regassified LNG into the proposed loop;

• Construct four new meter facilities for interconnections with (1) Calcasieu Gas Gathering System (Calcasieu Gas) at MP 0.0 in Calcasieu Parish; (2) Sabine Gas Transmission Company (MP 8.1) in Calcasieu Parish; (3) Texas Gas Transmission Corporation (MP L-191.6) ² in Jefferson Davis Parish; and (4) Tennessee Gas Pipeline Company (MP L-198.1) in Calcasieu Parish;

² MP L—is the milepost designation for the existing 30-inch-diameter LNG Lateral, which is part of Trunkline Gas' Lakeside Pipeline System.

• Modify two existing meter stations on Trunkline's Lakeside Pipeline System to increase capacity at the Texas Eastern Transmission, LP's delivery point interconnection (MP L-203.9) to 500,000 decatherms per day (Dth/day) and Transcontinental Gas Pipe Line Corporation's (Transco) Ragley delivery point interconnection (MP L-203.4) to 500,000 Dth/day in Beauregard Parish, Louisiana.

The location of the project facilities is shown in appendix 1.³

³ The appendices referenced in this notice are not being printed in the Federal Register. Copies of all appendices, other than appendix 1 (maps), are available on the Commission's Web site at the “eLibrary” link or from the Commission's Public Reference and Files Maintenance Branch, 888 First Street, NE., Washington, DC 20426, or call (202) 502-8371. For instructions on connecting to eLibrary refer to the last page of this notice. Copies of the appendices were sent to all those receiving this notice in the mail.

Nonjurisdictional Facilities

Nonjurisdictional facilities that would be built as a result of the proposed project are limited to taps and connecting piping that may be installed by Calcasieu Gas to connect the meter station facilities to its pipeline.

Land Requirements for Construction

The portion of the project in Docket No. CP02-60-004 would affect a total of 35.3 acres of the existing terminal site: 23.1 acres of grass cover, 9.5 acres covered in asphalt, concrete, or gravel, and 2.7 acres of water. Following construction, there would be 20.9 acres of grassed areas and 11.7 acres of asphalt, concrete, or gravel covered area. Of the 2.7 acres of water affected by construction, slightly less than 2.7 acres of water would remain after construction.

In Docket No. CP04-64-000, construction of the proposed pipeline and related facilities would disturb about 317.9 acres of land. Following construction, about 131.3 acres would be maintained as new pipeline right-of-way or aboveground facility sites. The remaining 186.6 acres of land would be restored and allowed to revert to its former use.

The EA Process

The National Environmental Policy Act (NEPA) requires the Commission to take into account the environmental impacts that could result from an action whenever it considers the issuance of a Certificate of Public Convenience and Necessity. NEPA also requires us ⁴ to discover and address concerns the public may have about proposals. This process is referred to as “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ “We”, “us”, and “our” refer to the environmental staff of the Office of Energy Projects (OEP).

The EA will discuss impacts that could occur as a result of the construction and operation of the proposed project under these general headings:

• Geology and soils

• Land use

• Water resources, fisheries, and wetlands

• Cultural resources

• Vegetation and wildlife

• Air quality and noise

• Endangered and threatened species

• Hazardous waste

• Public safety

We will also evaluate possible alternatives to the proposed projects or portions of the projects, and make recommendations on how to lessen or avoid impacts on the various resource areas.

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided for the project. This preliminary list of issues may be changed based on your comments and our analysis.

• Air and noise quality issues.

• Marine traffic issues.

• One federally listed endangered or threatened species may occur in the project area.

• Cultural resources may be affected in the project area.

• 42 waterbodies would be crossed.

• 3.3 acres of wetlands would be affected.

Also, we have made a preliminary decision to not address the impacts of the nonjurisdictional facilities. We will briefly describe their location and status in the EA.

Public Participation

You can make a difference by providing us with your specific comments or concerns about the projects. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket Nos. CP02-60-004/CP04-64-000.

• Mail your comments so that they will be received in Washington, DC on or before June 1, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.”

If you do not want to send comments at this time but still want to remain on our mailing list, please return the Information Request (Appendix 4). If you do not return the Information Request, you will be taken off the mailing list.

The Commission staff will conduct a field trip on portions of the pipeline facilities on May 19, 2004. Anyone interested in participating in the field trip may attend, but they must provide their own transportation. The Commission staff will start the field trip on Wednesday, May 19, 2004, at approximately 8:30 a.m. in the parking lot of the following hotel: Best Suites of America, 401 Lakeshore Drive, Lake Charles, LA 70601, Telephone: (337) 439-2444.

In addition, the Commission staff will hold a scoping meeting for the project on May 19, 2004, at 7 p.m. at the following address: Holiday Inn Express, 102 Mallard Street, Sulphur, Louisiana 70665 Telephone: (337) 625-2500.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission(s Rules of Practice and Procedure (18 CFR 385.214) (see appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in Appendix 3, to express their interest in becoming cooperating agencies for the preparation of the EA.

Additional Information

Additional information about the projects is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERCONLINESUPPORT@FERC.GOV. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-1046 Filed 5-7-04; 8:45 am]

BILLING CODE 6717-01-P